DEPARTMENT OF AGRICULTURE

Food and Nutrition Service

Request for Information: Supplemental Nutrition Assistance Program (SNAP) Data Exchange Standardization

AGENCY: Food and Nutrition Service (FNS), USDA.

ACTION: Notice.

SUMMARY: Section 4016 of the Agricultural Act of 2014 amended Section 11 of the Food and Nutrition Act of 2008 to require FNS to designate data exchange standards to govern both (1) necessary categories of information that SNAP State agencies operating related programs are required under applicable law to electronically exchange with another State agency, and (2) federal reporting and data exchange requirements under applicable law. The Act also directs FNS to consult with an interagency workgroup established by the Office of Management and Budget, which no longer exists, and to consider State government perspectives. As a result, FNS is issuing this Request for Information in order to obtain State government and other stakeholder perspectives as it considers how to best to proceed with establishing data exchange standards.

DATES: Written comments must be received on or before July 25, 2016.

ADDRESSES: Comments may be sent to Jane Duffield, Chief, State Administration Branch, Program Accountability and Administration Division, Food and Nutrition Service (FNS), U.S. Department of Agriculture, 3101 Park Center Drive, Room 818, Alexandria, VA 22302. Comments may also be emailed to SNAPSAB@fns.usda.gov. Comments will also be accepted through the Federal eRulemaking Portal. Go to http://www.regulations.gov and follow the online instructions for submitting comments electronically.

All written comments will be open for public inspection at the FNS office located at 3101 Park Center Drive, Alexandria, Virginia, 22302, Room 800, during regular business hours (8:30 a.m. to 5:00 p.m., Monday through Friday). All responses to this notice will be summarized and included in the request for Office of Management and Budget (OMB) approval. All comments will be a matter of public record.

FOR FURTHER INFORMATION CONTACT: Requests for additional information or copies of this request for information should be directed to Jane Duffield at (703) 605-4385.

SUPPLEMENTARY INFORMATION: Data standardization can enhance the ability of States and the federal government to administer the SNAP program more effectively by strengthening oversight, improving decision-making by program administrators, and fostering innovation through the greater use of data analytics. Data standardization may also help States and the federal government to reduce improper benefit payments, as well as to improve the detection and prevention of fraud, waste, and abuse by allowing for easier data sharing. Greater use of data sharing may improve program integrity by increasing the accuracy of payments, improving efficiency and case management through increased automation, improving decision-making by expanding verification, and by allowing for better-targeted efforts through data analysis of trends across States and populations served by the program.

With these general interests in mind, FNS is seeking information from stakeholders on the following particular questions:

1. Legislation requires FNS to propose a rule to identify federally required data exchanges, including the specification and timing of the exchanges to be standardized. FNS is also required to address the factors used to determine whether and when to standardize data exchanges, specify State implementation options, and to describe future milestones. Please provide your input on the following questions:

a. Should FNS consider requiring additional data exchanges that are not currently required by SNAP regulations? If so, what additional data exchanges would improve communication between the States and FNS?

b. What frequency should be considered for any data exchange that is currently required by regulation, or any data exchange that is not currently required and is being proposed in response to the preceding question?

c. What implementation options should be available to States in enacting a standardized data exchange?

d. What constraints, if any, would the technologies used to operate existing SNAP eligibility systems have on meeting data exchange requirements?

e. If FNS were to standardize a data exchange, how much time would be required for States to adapt processes and systems to comply?

2. The Act specifies that FNS should not require a change to an existing data exchange standard for Federal reporting if that standard has already been found to be effective and efficient. What criteria should FNS consider to determine whether an existing data exchange standard is effective and efficient?

3. State agencies already have focused efforts on integrating case management initiatives in order to better coordinate assistance for families with complex service needs across multiple program areas. What factors should FNS consider in a future rule to address SNAP data standardization so as not to adversely impact ongoing or planned initiatives?

4. In promulgating rules, what Federal or State laws should FNS be aware of that either hinder or promote data exchange standards?

5. What factors should FNS consider as part of the data exchange standardization effort to further strengthen client confidentiality? For example, should FNS mandate industry standard security protocols, such as requirements that Social Security Numbers (SSN) be encrypted and that States utilize data masking, or that States may not use SSN as a unique client identifier? If so, how can FNS promote further data interoperability while maintaining data security?

6. Are there any data standardization practices in your current data management process that could apply here, such as standardizing your data field names and definitions, including security classification, and implementing access policies to ensure input data cleansing and output data consistency?

7. Do States provide training to workers involved in the administration and enforcement of SNAP about data sharing?

8. Do States conduct security training with all staff involved in the administration and enforcement of the program that covers the client confidentiality requirements of the Food and Nutrition Act of 2008, as well as the SNAP regulations? If so, please address additional questions below:

a. What is the frequency of the training?

b. Does the State maintain a record of each individual worker's security training history?

c. Does the training cover additional security topics?

9. What factors should FNS consider regarding the impact data exchange standards would have on States that integrate data sources external to the SNAP State agency?

10. What barriers, if any, should FNS consider in implementing federally required data exchanges for SNAP program administration?

11. What factors should FNS consider for States that utilize an enterprise data warehouse for reporting and analyzing data in SNAP as well as across programs?

12. Efforts to promote data interoperability to improve oversight, data analysis, and decision-making are only as good as the quality of the data itself. What factors should FNS consider to strengthen SNAP data integrity in support of data exchange standards?

13. In addition to data exchange standards, should FNS consider additional steps related to this effort, such as providing standardized data sharing agreements for SNAP data?

14. What other concerns or barriers, if any, exist in successfully implementing data exchanges that were not addressed by any of the previous questions that FNS should consider?

Dated: May 10, 2016.
Audrey Rowe,
Administrator, Food and Nutrition Service.

[FR Doc. 2016-12262 Filed 5-24-16; 8:45 am]

BILLING CODE 3410-30-P